DEPARTMENT OF HEALTH AND HUMAN SERVICES

Centers for Disease Control and Prevention

[30Day-07-06BE]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 693-5960 or send an e-mail to omb@cdc.gov. Send written comments to CDC Desk Officer, Office of Management and Budget, Washington, DC or by fax to (202) 395-6974. Written comments should be received within 30 days of this notice.

Proposed Project

Evaluating Channels for Dissemination and Influencing Factors for Implementation of CDC's Dental Infection Control Guidelines-New-National Center for Chronic Disease Prevention and Health Promotion (NCCDPHP), Centers for Disease Control and Prevention (CDC).

Background and Brief Description

The Centers for Disease Control and Prevention's (CDC) Dental Unit plans to conduct an evaluation of the acceptance and implementation of its 2003 Guidelines for Infection Control in Dental Health Care Settings. These Guidelines took an evidence-based approach to recommending infection control procedures, coalescing existing guidelines developed over the past decade with new infection control measure recommendations supported by research. In releasing the Guidelines just over two years ago, the CDC mailed more than 400,000 copies to practicing dentists, hygienists, dental schools and educators, and health science libraries. CDC also prepared a summary of the Guidelines that were published in the Journal of the American Dental Association (JADA) in early 2004. At this time, it is critical to the Dental Unit's dissemination plan to mount an evaluation of the effectiveness of CDC's activities in moving the behavior of practicing dentists in the direction of increased adoption and implementation of recommendations put forth in the Guidelines.

CDC has contracted with the Research Triangle Institute (RTI) and its subcontractor, the American Dental Association (ADA), to design and conduct the first phase of such an evaluation. This phase includes conducting a mail survey to a probability sample of 6,500 dentists actively engaged in the private practice of clinical dentistry in the United States.

The sample will be selected from the ADA's dentist Master file, the nation's most up-to-date and complete listing of U.S. dentists. The Master file is associated with extensive descriptive information on U.S. dentists based on returns to other ADA survey and updating activities. Included in the master file is information that will allow the sample to: Be selected with equal precision from the U.S. Census Divisions; include over-representation of selected specialties, i.e., oral surgery and periodontics; identify dentists in private practice; and weight the sample according to selected demographic and professional characteristics so the results can accurately reflect all active private practice dentists in the U.S. We expect to achieve a response rate of at least 70 percent, which will yield 4,550 completed questionnaires. There are no costs to respondents other than their time to participate in the survey. The total estimated annual burden hours are 1,138.

Estimated Annualized Burden Table
Form | Number of respondents | Number of responses per respondent | Average burden per response (in hrs.)
Dental Survey | 4550 | 1 | 15/60

Dated: April 6, 2007.
Joan Karr,
Reports Clearance Officer Centers for Disease Control and Prevention.

[FR Doc. E7-6911 Filed 4-11-07; 8:45 am]

BILLING CODE 4163-18-P